DEPARTMENT OF TRANSPORTATION

Federal Railroad Administration

[Docket Number FRA-2020-0034]

Petition for Waiver of Compliance

Under part 211 of title 49 Code of Federal Regulations (CFR), this document provides the public notice that on April 20, 2020, Ohio River Scenic Railway (ORSR) petitioned the Federal Railroad Administration (FRA) for a waiver of compliance from certain provisions of the Federal railroad safety regulations contained at 49 CFR part 240, Qualifications and Certification of Locomotive Engineers. FRA assigned the petition Docket Number FRA-2020-0034.

Specifically, ORSR requests a waiver from the requirements of 49 CFR 240.201(d), Implementation, which states that a railroad can only permit qualified locomotive engineers to operate locomotives. ORSR seeks to operate an “Engineer-for-an-Hour” charter program and offer non-certified individuals the opportunity to operate a diesel-electric locomotive under the direct supervision of a certified and qualified locomotive engineer. ORSR states the waiver would affect only persons who participate in the program and restrictions would be placed on this operation.

The waiver would cover operations on a 2.6-mile segment of main track between milepost (MP) 3.4 and MP 6.0. There are no public grade crossings or otherwise hazardous or unusual conditions on this segment of track.

Through a series of license agreements, ORSR will utilize the majority of a 22-mile railroad line in Southern Indiana, owned and operated by the Perry County Port Authority (PCPA) d/b/a Hoosier Southern Railroad (HOS), to provide passenger excursion railroad service across Perry and Spencer Counties in Indiana. ORSR's normal excursion operations would occur between MP 2.3 and MP 22.2 on weekends, operating under yard limits not exceeding 10 miles per hour. HOS freight shipments only occur on the line on weekdays, except for special circumstances on the weekends. ORSR schedules must always be coordinated with and approved by the PCPA and HOS to ensure that there are no conflicting train movements.

A copy of the petition, as well as any written communications concerning the petition, is available for review online at www.regulations.gov and in person at the U.S. Department of Transportation's (DOT) Docket Operations Facility, 1200 New Jersey Ave. SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Ave. SE, W12-140, Washington, DC 20590.

• Hand Delivery: 1200 New Jersey Ave. SE, Room W12-140, Washington, DC 20590, between 9 a.m. and 5 p.m., Monday through Friday, except Federal Holidays.

Communications received by June 19, 2020 will be considered by FRA before final action is taken. Comments received after that date will be considered if practicable. Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety Chief Safety Officer.

[FR Doc. 2020-09559 Filed 5-4-20; 8:45 am]

BILLING CODE 4910-06-P